POSTAL SERVICE

Establishment of Prices and Classifications for Inbound Air Parcel Post at Universal Postal Union (UPU) Rates

AGENCY: Postal Service™.

ACTION: Notice.

SUMMARY: Postal Service gives notice of filing a request with the Postal Regulatory Commission to add Inbound Air Parcel Post at Universal Postal Union (UPU) Rates to the Competitive Products List pursuant to 39 U.S.C. 3642.

DATES: December 2, 2009.

FOR FURTHER INFORMATION CONTACT: Margaret M. Falwell, 703-292-3576.

SUPPLEMENTARY INFORMATION: The United States Postal Service® hereby gives notice that it has filed with the Postal Regulatory Commission a Request of United States Postal Service to Add Inbound Air Parcel Post at Universal Postal Union (UPU) Rates to the Competitive Products List, Notice of Establishment of Prices and Classifications Not of General Applicability for Inbound Air Parcel Post at UPU Rates Established in Governors' Decision No. 09-15, and Application for Non-Public Treatment of Materials Filed under Seal. Documents are available at http://www.prc.gov, Docket Nos. MC2010-11 and CP2010-11.

Neva R. Watson,
Attorney, Legislative.

[FR Doc. E9-28766 Filed 12-1-09; 8:45 am]

BILLING CODE 7710-12-P